DEPARTMENT OF ENERGY

Federal Energy Regulatory Commission

[Docket No. RP02-332-001]

Petal Gas Storage, L.L.C.; Notice of Compliance Filing

July 2, 2002.

Take notice that on June 27, 2002, Petal Gas Storage, L.L.C. (Petal), tendered for filing as part of its FERC Gas Tariff, Original Volume No. 1, Revised Sheet No. 61. Petal requests that this sheet be made effective June 1, 2002.

Petal submits this filing in compliance with the Commission's Order issued on May 30, 2002, directing Petal to revise its notification procedures for Rate Schedule AVS.

Petal states that copies of the filing have been mailed to all affected customers and state regulatory commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-17169 Filed 7-8-02; 8:45 am]

BILLING CODE 6717-01-P